DEPARTMENT OF HOUSING AND URBAN DEVELOPMENT

24 CFR Part 232

[Docket No. FR 6022-C-02]

RIN 2502-AJ46

Federal Housing Administration (FHA): Section 232 Healthcare Facility Insurance Program—Memory Care Residents; Correction

AGENCY: Office of the Assistant Secretary for Housing, HUD.

ACTION: Proposed rule; correction.

SUMMARY: On September 13, 2019, HUD published a proposed rule regarding its Section 232 Healthcare Facility Insurance Program. This document corrects the preamble to the proposed rule by revising an incorrect footnote and providing citations for three other footnotes.

DATES: This correction is effective September 26, 2019. The public comment due date remains November 12, 2019.

FOR FURTHER INFORMATION CONTACT: With respect to this supplementary document, contact Aaron Santa Anna, Acting Associate General Counsel for Legislation and Regulations, Department of Housing and Urban Development, 451 7th Street SW, Room 10238, Washington, DC 20410; telephone number 202-708-1793 (this is not a toll-free number). Persons with hearing or speech impairments may access this number through TTY by calling the toll-free Federal Relay at 800-877-8339 (this is a toll-free number).

SUPPLEMENTARY INFORMATION:

Correction

In proposed rule FR Doc. 2019-19778, beginning on page 48321 in the issue of September 13, 2019, make the following corrections, in the Supplementary Information section.

1. On page 48322 in the 1st column, revise footnote 3 to read as follows:

“³ Overview of Assisted Living, published by the American Association of Homes and Services for the Aging, American Seniors Housing Association, Assisted Living Federation of American, National Center for Assisted Living, and National Investment Center for the Seniors Housing & Care Industry (2009). https://www.ahcancal.org/ncal/facts/Documents/09%202009%20Overview%20of%20Assisted%20Living%20FINAL.pdf.”

2. On page 48322 in the 1st column, add footnote 4 to read as follows:

“⁴ Long-Term Care Services in the United States: 2013 Overview Vital and Heath Statistics, Series 2, no 37 Center for Disease Control and Prevention, National Center for Health Statistics, U. S. Department of Health and Human Services p. 39 https://www.cdc.gov/nchs/data/nsltcp/long_term_care_services_2013.pdf.”

3. On page 48322 in the 2nd column, add footnote 5 to read as follows:

“⁵ 42 CFR 483.90(e). https://www.govinfo.gov/content/pkg/CFR-2017-title42-vol5/pdf/CFR-2017-title42-vol5-sec483-90.pdf.”

4. On page 48322 in the 2nd column, add footnote 6 to read as follows:

“⁶ Compendium of Residential Care and Assisted Living Regulations and Policy: 2015 Edition06/15/2015, Office of The Assistant Secretary for Planning and Evaluation, U.S. Department of Health & Human Services, https://aspe.hhs.gov/basic-report/compendium-residential-care-and-assisted-living-regulations-and-policy-2015-edition.”

Dated: September 20, 2019.
Aaron Santa Anna,
Acting Associate General Counsel for Legislation and Regulations.

[FR Doc. 2019-20834 Filed 9-25-19; 8:45 am]

BILLING CODE 4210-67-P